DEPARTMENT OF TRANSPORTATION

National Highway Traffic Safety Administration

[Docket No. NHTSA-2004-18478; Notice 2]

Decision That Nonconforming 1999 Ferrari 456GT and GTA Passenger Cars Are Eligible for Importation

AGENCY: National Highway Traffic Safety Administration, DOT.

ACTION: Notice of decision by National Highway Traffic Safety Administration that nonconforming 1999 Ferrari 456GT and GTA passenger cars are eligible for importation.

SUMMARY: This document announces a decision by the National Highway Traffic Safety Administration (NHTSA) that certain 1999 Ferrari 456GT and GTA passenger cars that were not originally manufactured to comply with all applicable Federal motor vehicle safety standards (FMVSS) are eligible for importation into the United States because they are substantially similar to vehicles originally manufactured for importation into and sale in the United States and that were certified by their manufacturer as complying with the safety standards (the U.S. certified version of the 1999 Ferrari 456GT and GTA passenger cars), and they are capable of being readily altered to conform to the standards.

DATES: This decision was effective September 24, 2004.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified as required under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC (JK) of Baltimore, Maryland (Registered Importer 90-006), petitioned NHTSA to decide whether 1999 Ferrari 456GT and GTA passenger cars are eligible for importation into the United States. NHTSA published notice of the petition on July 9, 2004 (69 FR 41570) to afford an opportunity for public comment. The reader is referred to that notice for a thorough description of the petition.

One comment was received in response to the notice of petition, from Ferrari North America, Inc. (FNA), the U.S. representative of Ferrari SpA, the vehicle's manufacturer. In its comment, FNA contended that there are complex issues concerning the conformance of Ferrari GT and GTA passenger cars to FMVSS Nos. 214 Side Impact Protection and 216 Roof Crush Resistance. FNA supported this contention by noting that such issues had come to the fore in the import eligibility decision covering 1997 and 1998 Ferrari 456 GT and GTA passenger cars that was published on April 16, 2004 (at 69 FR 20663). As a consequence, FNA expressed concern that the petitioner in this instance had not fully documented its conclusions with regard to both the need for modifications to meet those two standards and the methods by which such modifications would be made if they are deemed to be necessary. FNA further noted that although the petition had referred to FMVSS No. 216, no mention of this standard was made in the notice of petition published by the agency. Lastly, FNA observed that the petitioner did not supply the vehicle identification number (VIN) of the vehicle on which the petition was based, despite agency instructions for petitioning RIs to furnish this information.

The agency referred FNA's comments to the petitioner, but received no response. The agency notes that other than observing that there are complex issues concerning the conformance of the vehicles with FMVSS Nos. 214 and 216, FNA provided no specifics to support this position. More significantly, FNA did not contend that the vehicles are incapable of being readily altered to comply with those standards. As noted by FNA, the agency has already concluded that 1997 and 1998 Ferrari GT and GTA passenger cars are capable of being readily altered to comply with FMVSS Nos. 214 and 216. Based on the similarity of the 1997 and 1998 models to the 1999 model year vehicles that are the subject of this petition, the agency has no reason to conclude that the 1999 models are not similarly capable of being readily altered to comply. FNA was correct in observing that the agency, through oversight, had neglected to include in the notice of petition any discussion regarding the vehicles' compliance with FMVSS No. 216. The notice should have stated that the petition identified the installation of braces bonded at the rear roof corners as needed to conform the vehicles to that standard. With regard to the petitioner's failure to provide a VIN for the petitioned vehicle, the agency notes that although it would prefer petitioners to supply information of this kind, there is no regulatory requirement for them to do so.

Based on these considerations, the agency decided to grant the petition.

As NHTSA concluded in its analysis of the eligibility of the similar 1997 and 1998 Ferrari GT and GTA passenger cars, the modifications proposed for the 1999 Ferrari GT and GTA passenger cars indicate that the vehicles are capable of being readily altered.

Vehicle Eligibility Number for Subject Vehicles

The importer of a vehicle admissible under any final decision must indicate on the form HS-7 accompanying entry the appropriate vehicle eligibility number indicating that the vehicle is eligible for entry. VSP-445 is the vehicle eligibility number assigned to vehicles admissible under this notice of final decision.

Final Decision

Accordingly, on the basis of the foregoing, NHTSA decided that 1999 Ferrari 456GT and GTA passenger cars that were not originally manufactured to comply with all applicable FMVSS are substantially similar to 1999 Ferrari 456GT and GTA passenger cars originally manufactured for importation into and sale in the United States and certified under 49 U.S.C. 30115, and are capable of being readily altered to conform to all applicable FMVSS.

Authority: 49 U.S.C. 30141(a)(1)(A) and (b)(1); 49 CFR 593.8; delegations of authority at 49 CFR 1.50 and 501.8.

Claude H. Harris,
Director, Office of Vehicle Safety Compliance.

[FR Doc. E5-7021 Filed 12-7-05; 8:45 am]

BILLING CODE 4910-59-P